DEPARTMENT OF DEFENSE

Office of the Secretary

[Docket ID: DoD-2014-OS-0013]

Privacy Act of 1974; System of Records

AGENCY: Defense Information Systems Agency, DoD.

ACTION: Notice to add a new System of Records.

SUMMARY: The Defense Information Systems Agency proposes to add a new system of records in its inventory of record systems subject to the Privacy Act of 1974, as amended. The new system K890.16, Enterprise Mission Assurance Support Service (EMASS), will automate the DoD certification and accreditation process.

DATES: This proposed action will be effective on March 3, 2014 unless comments are received which result in a contrary determination. Comments will be accepted on or before March 3, 2014.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jeanette Weathers-Jenkins, 6916 Cooper Avenue, Fort Meade, MD 20755-7901.

SUPPLEMENTARY INFORMATION: The Defense Information Systems Agency notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 18, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 23, 2014.
Aaron Siegel,
Alternate OSD Federal Register Liaison Officer, Department of Defense.

K890.16

System name:

Enterprise Mission Assurance Support Service (EMASS).

System location:

Defense Information Systems Agency, Defense Enterprise Computing Centers (DECC), 3990 E. Broad Street, Columbus, OH 43213-1130.

Categories of individuals covered by the system:

DoD government employees, military personnel and DoD contractors.

Categories of records in the system:

Full name, organization, office phone number, title, position, grade, current DISA identification badge, grade, work email address, information technology (IT) position category, and clearance level.

Authority for maintenance of the system:

5 U.S.C. 301, Departmental Regulation; DoD Directive 5105.19, Defense Information Systems Agency (DISA); and DoDI 8510.01, Department of Defense Information Assurance Certification and Accreditation Process (DIACAP).

Purpose(s):

The system automates the DoD certification and accreditation process. Information collected on individuals is to determine role based access and whether or not a person has the correct qualifications to perform certification and accreditation within the DoD organization that is utilizing the system.

Routine uses of records maintained in the system, including categories of users and the purposes of such uses:

In addition to those disclosures generally permitted under 5 U.S.C. 552a (b) of the Privacy Act of 1974, as amended, these records contained therein may specifically be disclosed outside the DoD as a routine use pursuant to 5 U.S.C. 552a(b)(3) as follows:

The DoD Blanket Routine Uses set forth at the beginning of the DISA's compilation of systems of records notices may apply to this system.

Policies and practices for storing, retrieving, accessing, retaining, and disposing of records in the system:

Storage:

Electronic storage media.

Retrievability:

Retrieved by name.

Safeguards:

Access to EMASS is an encrypted Public Key-Enabled and requires authorization from the organization system administrator. The system is a role based access application and administrators have the rights to assign. Information is stored within the database that resides within a DISA Enclave. The DISA enclave has a number of security measures in place to protect the database from unauthorized access from outside the .mil. Backup tapes are stored in a locked safe and information is also backed up daily.

Retention and disposal:

Disposition pending (until the National Archives and Records Administration approves retention and disposal schedule, records will be treated as permanent).

System manager(s) and address:

EMASS Program Manager, Defense Information Systems Agency, Program Executive Office-Mission Assurance (PEO-MA) Room IA5, 6914 Cooper Ave, Fort Meade, MD 20755-0549.

Notification procedure:

Individuals seeking to determine whether information about themselves is contained in this system of records should address written inquiries to the Defense Information Systems Agency, PEO-MA IA5, and 6914 Cooper Ave, Fort Meade, MD 20755-0549.

The full name of the requesting individual will be required to determine if the system contains a record about him or her.

The requester may also visit the system manager listed. The requester must present a copy of their current DISA identification badge or a copy of driver's license as proof of identity.

Record access procedures:

Individuals seeking access to information about themselves contained in this system of records should address written inquiries to the Defense Information Systems Agency, PEO-MA IA5, 6914 Cooper Ave, Fort Meade, MD 20755-0549.

The full name of the requesting individual will be required to determine if the system contains a record about him or her.

The requester may also visit the system manager listed. The requester must present a copy of their current DISA identification badge or a copy of driver's license as proof of identity.

DISAs rules for accessing records, for contesting content and appealing initial agency determinations are published in DISA Instruction 210-225-2; 32 CFR part 316; or may be obtained from the systems manager.

Contesting record procedures:

DISAs rules for accessing records, for contesting content and appealing initial agency determinations are published in DISA Instruction 210-225-2; 32 CFR part 316; or may be obtained from the systems manager.

Record source categories:

From the individual.

Exemptions claimed for the system:

None.

[FR Doc. 2014-01640 Filed 1-29-14; 8:45 am]

BILLING CODE 5001-06-P